FEDERAL COMMUNICATIONS COMMISSION

47 CFR Part 73

[DA 04-3331; MB Docket No. 04-402; RM-11087]

Radio Broadcasting Services; Cheyenne and Encampment, WY

AGENCY: Federal Communications Commission.

ACTION: Proposed rule.

SUMMARY: This document requests comments on a petition for rule making filed by Mountain States Radio, Inc. (“Petitioner”), licensee of Station KRRR(FM), Channel 285C2, Cheyenne, Wyoming. The petition requests that the Commission allot Channel 285C2 to Encampment, Wyoming; substitute Channel 229C2 for Channel 285C2 at Cheyenne, Wyoming; and substitute Channel 285C2 for vacant Channel 229A at Cheyenne. The coordinates for proposed Channel 285C2 at Encampment are 41-14-00 NL and 106-56-46 WL, with a site restriction of 13.4 kilometers (8.3 miles) west of Encampment. The coordinates for proposed Channel 229C2 at Cheyenne are 41-08-32 NL and 104-32-21 WL, with a site restriction of 23.0 kilometers (14.3 miles) east of Cheyenne. The coordinates for proposed Channel 285C2 at Cheyenne are 41-21-25 NL and 104-40-55 WL, with a site restriction of 26.7 kilometers (16.6 miles) northeast of Cheyenne.

DATES: Comments must be filed on or before December 16, 2004, and reply comments on or before December 31, 2004.

ADDRESSES: Secretary, Federal Communications Commission, 445 12th Street, SW., Room TW-A325, Washington, DC 20554. In addition to filing comments with the FCC, interested parties should serve the petitioner's counsel, as follows: A. Wray Fitch, Esq., Gammon & Grange, P.C.; 8280 Greensboro Drive, 7th Floor; McLean, Virginia 22102-3807.

FOR FURTHER INFORMATION CONTACT: R. Barthen Gorman, Media Bureau, (202) 418-2180.

SUPPLEMENTARY INFORMATION: This is a synopsis of the Commission's Notice of Proposed Rule Making, MB Docket No. 04-402, adopted October 20, 2004, and released October 25, 2004. The full text of this Commission decision is available for inspection and copying during regular business hours in the FCC's Reference Information Center at Portals II, 445 12th Street, SW., CY-A257, Washington, DC, 20554. This document may also be purchased from the Commission's duplicating contractors, Best Copy and Printing, Inc., Portals II, 445 12th Street, SW., Room CY-B402, Washington, DC, 20554, telephone 1-800-378-3160 or www.BCPIWEB.com.

The provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, See 47 CFR 1.415 and 1.420.

List of Subjects in 47 CFR Part 73

Radio, Radio broadcasting.

For the reasons discussed in the preamble, the Federal Communications Commission proposes to amend 47 CFR part 73 as follows:

PART 73—RADIO BROADCAST SERVICES

1. The authority citation for Part 73 continues to read as follows:

Authority: 47 U.S.C. 154, 303, 334, and 336.

§ 73.202 [Amended]

2. Section 73.202(b), the Table of FM Allotments under Wyoming, is amended by removing Channel 285C2 and Channel 229A and by adding Channel 229C2 and Channel 285C2 at Cheyenne; by adding Encampment, Channel 285C2.

Federal Communications Commission.
John A. Karousos,
Assistant Chief, Audio Division, Media Bureau.

[FR Doc. 04-25057 Filed 11-9-04; 8:45 am]

BILLING CODE 6712-01-P